DEPARTMENT OF TRANSPORTATION

Federal Motor Carrier Safety Administration

49 CFR Part 380 and 391

[Docket FMCSA-97-2176]

RIN 2126-AA08

Minimum Training Requirements for Longer Combination Vehicle (LCV) Operators and LCV Driver-Instructor Requirements; Correction

AGENCY: Federal Motor Carrier Safety Administration, (FMCSA); DOT.

ACTION: Final rule; correction.

SUMMARY: The Federal Motor Carrier Safety Administration published in the Federal Register of March 30, 2004, a final rule concerning requirements for operators of LCVs and the instructors who train them. The requirements codified at § 391.53 should have been designated § 391.55. In addition, the authority citation for the rule failed to include the authorities listed in another FMCSA rule amending part 391 that was published the same day. This document corrects these errors. Also, under the SUPPLEMENTARY INFORMATION section, we discuss an error in the preamble of the March 30 rule which does not require a correction to the regulatory text.

DATES: Effective on June 1, 2004.

FOR FURTHER INFORMATION CONTACT: Mr. Robert Redmond, Office of Safety Programs, (202) 366-9579, Federal Motor Carrier Safety Administration, U.S. Department of Transportation, 400 Seventh Street, SW., Washington, DC 20590. Office hours are from 8:30 a.m. to 5 p.m., e.s.t., Monday through Friday, except Federal holidays.

SUPPLEMENTARY INFORMATION: The FMCSA published two documents in the Federal Register of March 30, 2004, both of which mistakenly added a new § 391.53 with different section headings and contents. The Safety Performance History of New Drivers final rule (69 FR 16684) added § 391.53 Driver Investigation History File. The final rule on Minimum Training Requirements for Longer Combination Vehicle (LCV) Operators and LCV Driver-Instructor Requirements (69 FR 16722) added § 391.53 LCV Driver-Instructor qualification files. This correction changes the designation of the “LCV Driver-Instructor qualification files” from § 391.53 to § 391.55. This amendment is being adopted to avoid codifying two different provisions under the same section number. FMCSA also revises the authority citation to reflect the statutory authority for changes to 49 CFR part 391 resulting from the Safety Performance History of New Drivers final rule. Because the content of the re-designated section is unchanged, and the authority citation has no effect on the public, FMCSA has determined pursuant to 5 U.S.C. 553(b)(B) and (d)(3) that prior notice and opportunity for comment on these amendments are unnecessary and that good cause exists to make the amendments effective upon publication in the Federal Register.

The discussion of CDL endorsements under § 383.93(b), which occurs in the preamble of the March 30 final rule, includes obsolete information about the hazardous materials endorsement and omits the school bus endorsement. The agency revised § 383.93(b) in an interim final rule titled Limitations on the Issuance of a Commercial Driver's Licenses with a Hazardous Materials Endorsement (68 FR 23844, May 5, 2003). Formerly, only a driver who operated a vehicle hauling a placardable amount of hazardous materials must obtain a hazardous materials endorsement. The May 5 final rule additionally requires drivers that transport select agents and toxins to obtain a hazardous materials endorsement and made a conforming amendment to § 393.93(b)(4) to cross-reference the broadened hazardous materials definition. In the March 30 document, on page 16723, in the first column, the first full paragraph reads:

In accordance with the CMVSA, all drivers of commercial motor vehicles must possess a valid CDL in order to be properly qualified to operate the vehicle(s) they drive. In addition to passing the CDL knowledge and skills tests required for the basic vehicle group, all persons who operate or expect to operate any of the following vehicles, which have special handling characteristics, must obtain endorsements under 49 CFR 383.93(b):

(a) Double/triple trailers;

(b) Passenger vehicles;

(c) Tank vehicles;

(d) Vehicles required to be placarded for hazardous materials.

The correct information is as follows:

In accordance with the CMVSA, all drivers of commercial motor vehicles must possess a valid CDL in order to be properly qualified to operate the vehicle(s) they drive. In addition to passing the CDL knowledge and skills tests required for the basic vehicle group, 49 CFR 383.93(b) requires an operator to obtain State-issued endorsements to his/her CDL to operate commercial motor vehicles which are:

(1) Double/triple trailers;

(2) Passenger vehicles;

(3) Tank vehicles;

(4) Used to transport hazardous materials as defined in § 383.5, or

(5) School buses.

The information on those endorsements for which a driver must pass a skills test excludes the school bus endorsement. On page 16723, in the first column, in paragraph 2, in the second full paragraph, the second sentence reads:

To obtain a passenger endorsement, the driver also must pass a skills test.

It should read:

To obtain a passenger or school bus endorsement, the driver also must pass a skills test.

These preamble errors do not require a correction to the regulatory text.

Correction

In rule FR Doc. 04-6794 published on March 30, 2004, (69 FR 16722) make the following corrections:

1. On page 16727, in the third column, in paragraph 3, in the seventh line, “391.53” is corrected to read “391.55”.

PART 391—[CORRECTED]

2. On page 16738, in the third column, in paragraph 1, the authority citation for part 391 is corrected to read:

“Authority: 49 U.S.C. 322, 504, 508, 31133, 31136 and 31502; Sec. 4007(b) of Pub. L. 102-240 (105 Stat. 2152); Sec. 114, Pub. L. 103-311 (108 Stat. 1673, 1677); and 49 CFR 1.73”.

3. On page 16738, in the third column, in amendatory instruction 3, in the third line, “§ 391.53” is corrected to read “§ 391.55”.

§ 391.53 [Corrected]

4. On page 16738, in the third column, in the section heading, “§ 391.53” is corrected to read “§ 391.55”.

Dated: May 13, 2004.
Annette M. Sandberg,
Administrator.

[FR Doc. 04-11306 Filed 5-18-04; 8:45 am]

BILLING CODE 4910-EX-P